DEPARTMENT OF TRANSPORTATION

Federal Aviation Administration

14 CFR Part 39

[Docket No. FAA-2011-0452; Directorate Identifier 2008-SW-27-AD; Amendment 39-16692; AD 2011-10-11]

RIN 2120-AA64

Airworthiness Directives; Agusta S.p.A. Model AB412 Helicopters

AGENCY: Federal Aviation Administration (FAA), Department of Transportation (DOT).

ACTION: Final rule; request for comments.

SUMMARY: We are adopting a new airworthiness directive (AD) for Agusta S.p.A. (Agusta) Model AB412 helicopters. This AD results from mandatory continuing airworthiness information (MCAI) originated by the aviation authority of Italy to identify and correct an unsafe condition related to the rescue hoist hook installed on this model helicopter. The aviation authority of Italy, with which we have a bilateral agreement, states in the MCAI that a missing lock pin may cause the loss of the hoist hook and any load. The absence of the lock pin constitutes an unsafe condition, and this AD is intended to detect the presence of an identification plate marked “BT 412-124,” which indicates that the hook assembly has the lock pin installed to prevent the loss of a rescue hoist hook and its load.

DATES: This AD becomes effective on May 31, 2011.

We must receive comments on this AD by July 15, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Via Giovanni Agusta, 520 21017 Cascina Costa di Samarate (VA), Italy, telephone 39 0331-229111, fax 39 0331-229605/222595, or at http://customersupport.agusta.com/technical_advice.php.

Examining the AD Docket: You may examine the AD docket on the Internet at http://www.regulations.gov or in person at the Docket Operations office between 9 a.m. and 5 p.m., Monday through Friday, except Federal holidays. The AD docket contains this AD, any comments received, and other information. The street address for the Docket Operations office (telephone (800) 647-5527) is in the ADDRESSES section. Comments will be available in the AD docket shortly after receipt.

FOR FURTHER INFORMATION CONTACT: George Schwab, Aerospace Engineer, Safety Management Group, FAA, Rotorcraft Directorate, 2601 Meacham Blvd., Fort Worth, TX 76137; telephone (817) 222-5114; fax (817) 222-5961.

SUPPLEMENTARY INFORMATION:

Discussion

The Ente Nazionale Per L'Aviazione Civile (ENAC), which is the aviation authority for Italy, has issued Italian Airworthiness Directive No. 2008-62, dated February 19, 2008 (referred to after this as “the MCAI”), to correct an unsafe condition for these Italian-certificated helicopters. The MCAI states that a missing lock pin may cause the loss of the hoist hook and any load. The absence of the lock pin constitutes an unsafe condition, and this AD is intended to detect the presence of an identification plate marked “BT 412-124,” which indicates that the hook assembly has the lock pin installed to prevent the loss of a rescue hoist hook and its load.

You may obtain further information by examining the MCAI and service information in the AD docket.

Related Service Information

Agusta has issued Alert Bollettino Tecnico No. 412-124, dated February 19, 2008, that describes performing a one-time inspection to verify the presence of a lock pin in the installed and spare hoist hook assemblies, returning the hoist hook assembly to Agusta if it is missing a lock pin, or installing a plate on the hoist showing compliance with the inspection if a lock pin is present. The actions described in this service information are intended to correct the same unsafe condition as that identified in the MCAI.

FAA's Evaluation and Unsafe Condition Determination

These helicopters have been approved by the aviation authority of Italy, and are approved for operation in the United States. Pursuant to our bilateral agreement with Italy, they have notified us of the unsafe condition described in the MCAI. We are issuing this AD because we evaluated all information and determined the unsafe condition exists and is likely to exist or develop on other helicopters of this same type design.

Differences Between This AD and the MCAI

This AD differs from the MCAI as follows:

• We do not require inspecting spare part hook assemblies.

• We do not require a March 31, 2008 compliance time because that date has passed.

• We do not require returning a hook assembly in which there is no lock pin installed to the manufacturer.

These differences are highlighted in the “Differences Between this AD and the MCAI” section in the AD.

Costs of Compliance

There are no costs of compliance since there are no helicopters of this type design on the U.S. Registry.

FAA's Determination of the Effective Date

Since there are currently no affected U.S. registered helicopters, we have determined that notice and opportunity for prior public comment before issuing this AD are unnecessary, and that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2011-0452; Directorate Identifier 2008-SW-27-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-10-11 AGUSTA S.p.A.: Amendment 39-16692. Docket No. FAA-2011-0452; Directorate Identifier 2008-SW-27-AD.

Effective Date

(a) This airworthiness directive (AD) becomes effective on May 31, 2011.

Other Affected ADs

(b) None.

Applicability

(c) This AD applies to Model AB412 helicopters, with rescue hoist assembly, part number (P/N) BL-10300-60 or P/N 412-8800-01-315 with a rescue hook assembly, P/N S6150-61090-1 or P/N 412-8800-05-101, installed, certificated in any category.

Reason

(d) The mandatory continued airworthiness information (MCAI) states that a missing lock pin may cause the loss of the hoist hook and any load. The absence of the lock pin constitutes an unsafe condition and this AD is intended to detect the absence of this lock pin to prevent the loss of a rescue hoist hook and its load.

Actions and Compliance

(e) Before further flight, unless accomplished previously, inspect the rescue hoist hook assembly (hook assembly) for the presence of an attached identification plate marked “BT 412-124.”

(1) If this identification plate is installed on the hook assembly, no further action is required.

(2) If this identification plate is not installed on the hook assembly:

(i) Review the hook assembly maintenance records to determine if the hook assembly was manufactured after April 1, 2008. If so, no further action is required.

(ii) If the hook assembly date of manufacture is March 31, 2008, or earlier or if the date of manufacture cannot be determined, replace the hook assembly with an airworthy hook assembly that was either manufactured after April 2, 2008, or has an identification plate installed that is marked “BT 412-124.”

Differences Between This AD and the MCAI

(f) This AD differs from the MCAI as follows:

(1) We do not require inspecting spare part hook assemblies.

(2) We do not require a March 31, 2008 compliance time because that date has passed.

(3) We do not require returning a hook assembly in which there is no lock pin installed to the manufacturer.

Other Information

(g) Alternative Methods of Compliance (AMOCs): The Manager, Safety Management Group, FAA, has the authority to approve AMOCs for this AD, if requested using the procedures found in 14 CFR 39.19. Send information to ATTN: George Schwab, Aerospace Engineer, Safety Management Group, FAA, Rotorcraft Directorate, 2601 Meacham Blvd., Fort Worth, TX 76137; telephone (817) 222-5114; fax (817) 222-5961.

Related Information

(h) Mandatory Continuing Airworthiness Information (MCAI) Ente Nazionale Per L'Aviazone Civile (ENAC) Airworthiness Directive No. 2008-62, dated February 19, 2008, and Agusta Alert Bollettino Tecnico No. 412-124, dated February 19, 2008, contain related information.

(i) The Joint Aircraft System Component (JASC)/Air Transport Association (ATA) of America Code is 2550, External Load Handling Equipment.

Issued in Fort Worth, Texas, on April 28, 2011.
Scott A. Horn,
Acting Manager, Rotorcraft Directorate, Aircraft Certification Service.

[FR Doc. 2011-11797 Filed 5-13-11; 8:45 am]

BILLING CODE 4910-13-P